DEPARTMENT OF TRANSPORTATION

Pipeline and Hazardous Materials Safety Administration

[Docket No.: PHMSA-97-2995]

Pipeline Safety: Random Drug Testing Rate

AGENCY: Pipeline and Hazardous Materials Safety Administration (PHMSA), DOT.

ACTION: Notice of minimum annual percentage rate for random drug testing.

SUMMARY: Each year pipeline operators randomly select employees to test for prohibited drugs. The number of selections may not be less than the minimum annual percentage rate PHMSA determines, either 50 percent or 25 percent of covered employees, based on the industry's positive rate of random tests. In accordance with applicable standards, PHMSA has determined that the positive rate of random drug tests reported by operators this calendar year for testing done in calendar year 2005 is less than 1.0 percent. Therefore, in calendar year 2006, the minimum annual percentage rate for random drug testing is 25 percent of covered employees.

DATES: Effective January 1, 2006, through December 31, 2006.

FOR FURTHER INFORMATION CONTACT: Stanley Kastanas, PHMSA, Room 2103, U.S. Department of Transportation, 400 Seventh Street, SW., Washington, DC 20590, telephone (202) 366-3844 or e-mail Stanley.Kastanas@DOT.GOV.

SUPPLEMENTARY INFORMATION: Operators of gas, hazardous liquid, and carbon dioxide pipelines and operators of liquefied natural gas facilities must annually submit Management Information System (MIS) reports of drug testing done in the previous calendar year (49 CFR 199.119(a)). One of the uses of this information is to calculate the minimum annual percentage rate at which operators must randomly select covered employees for drug testing during the next calendar year (49 CFR 199.105(c)(2)). If the minimum annual percentage rate for random drug testing is 50 percent, PHMSA may lower the rate to 25 percent if PHMSA determines that the positive rate reported for random tests for two consecutive calendar years is less than 1.0 percent (49 CFR 199.105(c)(3)). If the minimum annual percentage rate is 25 percent, PHMSA will increase the rate to 50 percent if PHMSA determines that the positive rate reported for random tests for any calendar year is equal to or greater than 1.0 percent (49 CFR 199.105(c)(4)). Part 199 defines “positive rate” as “the number of positive results for random drug tests * * * plus the number of refusals of random tests * * *, divided by the total number of random drug tests * * * plus the number of refusals of random drug tests.”

Through calendar year 1996, the minimum annual percentage rate for random drug testing in the pipeline industry was 50 percent of covered employees. Based on MIS reports of random testing done in calendar years 1994 and 1995, PHMSA lowered the minimum rate from 50 percent to 25 percent for calendar year 1997 (61 FR 60206). The minimum rate remained at 25 percent in calendar years 1998 (62 FR 59297); 1999 (63 FR 58324); 2000 (64 FR 66788); 2001 (65 FR 81409); 2002 (67 FR 2611); 2003 (67 FR 78388); 2004 (68 FR 69046); and 2005 (70 FR 50).

Using the MIS reports received for drug testing done in calendar year 2005, PHMSA calculated the positive rate of random testing continues to be less than 1.0 percent. PHMSA is announcing that the minimum annual percentage rate for random drug testing is 25 percent of covered employees for January 1, 2006 through December 31, 2006.

Authority: 49 U.S.C. 5103, 60102, 60104, 60108, 60117, and 60118; 49 CFR 1.53.

Issued in Washington, DC on February 14, 2006.
Stacey L. Gerard,
Associate Administrator for Pipeline Safety.

[FR Doc. E6-2373 Filed 2-16-06; 8:45 am]

BILLING CODE 4910-60-P